DEPARTMENT OF THE INTERIOR

Bureau of Land Management

[OR-130-1020-PH; GP02-0339]

Notice of Public Meeting, Eastern Washington Resource Advisory Council Meeting

AGENCY: Bureau of Land Management, Interior.

ACTION: Notice of public meeting.

SUMMARY: In accordance with the Federal Land Policy and Management Act (FLPMA) and the Federal Advisory Committee Act of 1972 (FACA), the U.S. Department of the Interior, Bureau of Land Management (BLM) Eastern Washington Resource Advisory Council (RAC), will meet as indicated below.

DATES: The Eastern Washington Resource Advisory Council (EWRAC) will meet on September 17, 2002, at the Spokane District Office, Bureau of Land Management, 1103 North Fancher Road, Spokane, Washington, 99212-1275.

SUPPLEMENTARY INFORMATION: The meeting will start at 9 a.m. and adjourn about 4 p.m.. Topics on the meeting agenda include: Update on Columbia Basin Shrub-Steppe Land Exchange; Development of ground rules for Public Input Process; Review of Proposed Resolution on Energy & Minerals; Status of Incoming RAC members; Future RAC meeting dates.

The entire meeting is open to the public. Information to be distributed to Council members is requested in written format 10 days prior to the Council meeting date. Public comment is scheduled for 11 a.m. to 12 noon.

FOR FURTHER INFORMATION CONTACT: Sandra Gourdin or Kathy Helm, Bureau of Land Management, Spokane District Office, 1103 N. Fancher Road, Spokane, Washington, 99212, or call (509) 536-1200.

Dated: August 12, 2002.
Gary J. Yeager,
Acting District Manager.

[FR Doc. 02-20948 Filed 8-16-02; 8:45 am]

BILLING CODE 4310-33-P